DEPARTMENT OF ENERGY

Federal Energy Regulatory Commission

Sunshine Act Meeting

The following notice of meeting is published pursuant to section 3(a) of the government in the Sunshine Act (Pub. L. 94-409), 5 U.S.C. 552b:

AGENCY HOLDING MEETING: Federal Energy Regulatory Commission.

DATE AND TIME: February 21, 2019, 10:00 a.m.

PLACE: Room 2C, 888 First Street NE, Washington, DC 20426.

STATUS: Open.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ using the eLibrary link, or may be examined in the Commission's Public Reference Room.

1052nd Meeting—Open Meeting
[February 21, 2019, 10:00 a.m.]
Item No. | Docket No. | Company
Administrative
A-1 | AD19-1-000 | Agency Administrative Matters.
A-2 | AD19-2-000 | Customer Matters, Reliability, Security and Market Operations.
Electric
E-1 | RM17-8-001 | Reform of Generator Interconnection Procedures and Agreements.
E-2 | RM18-15-000 | Interlocking Officers and Directors; Requirements for Applicants and Holders.
E-3 | RM19-4-000 | Implementation of Amended Section 203(a)(1)(B) of the Federal Power Act.
E-4 | ER19-697-000, EL19-41-000 | Cheyenne Light, Fuel and Power Company.
E-5 | ER18-1598-001, EL18-77-000 | New York Independent System Operator, Inc., Central Hudson Gas & Electric Corporation.
E-6 | ER17-1561-002, ER17-1561-003 | New York Independent System Operator, Inc.
E-7 | ER19-538-000 | California Independent System Operator Corporation.
E-8 | ER19-308-000 | California Independent System Operator Corporation.
E-9 | ER18-1169-002 | California Independent System Operator Corporation.
E-10 | EL18-200-000 | Jacksonville Electric Authority.
E-11 | ER19-550-000, EL18-119-000 | Tucson Electric Power Company.
E-12 | ER18-1259-001 | Vermont Transco, LLC.
E-13 | ER18-810-000 | FirstEnergy Solutions Corp.
E-14 | ER18-809-000 | FirstEnergy Solutions Corp.
E-15 | ER18-1596-001, EL18-112-000 | Sky River LLC.
E-16 | EL18-108-000 | Pacific Gas and Electric Company.
E-17 | EL18-203-000 | Owensboro Municipal Utilities v. Louisville Gas and Electric Company and Kentucky Utilities Company.
E-18 | ER18-1704-001 | Stuttgart Solar, LLC.
E-19 | EL18-171-000 | Kathryn E. Leonard v. Rhode Island Public Utilities Commission, Narragansett Electric Company, Inc., and Deepwater Wind Block Island, LLC.
Gas
G-1 | RP18-922-000 | Trailblazer Pipeline Company LLC.
G-2 | IS08-390-010, IS08-390-011 | SFPP, L.P.
G-3 | RP19-276-000, RP19-276-001 | Young Gas Storage Company, Ltd.
Hydro
H-1 | RM19-13-000 | Revisions and Technical Corrections to Conform the Commission's Regulations to the America's Water Infrastructure Act of 2018.
Certificates
C-1 | CP18-506-000, CP18-539-000 | Portland Natural Gas Transmission System, Maritimes & Northeast Pipeline, L.L.C.
C-2 | CP18-534-000 | Northern Natural Gas Company.

Issued: February 14, 2019.
Kimberly D. Bose,
Secretary.

A free webcast of this event is available through http://ferc.capitolconnection.org/. Anyone with internet access who desires to view this event can do so by navigating to www.ferc.gov' s Calendar of Events and locating this event in the Calendar. The event will contain a link to its webcast. The Capitol Connection provides technical support for the free webcasts. It also offers access to this event via television in the DC area and via phone bridge for a fee. If you have any questions, visit http://ferc.capitolconnection.org/ or contact Shirley Al-Jarani at 703-993-3104.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2019-03260 Filed 2-21-19; 11:15 am]

BILLING CODE 6717-01-P